DEPARTMENT OF JUSTICE

Antitrust Division

Notice Pursuant to the National Cooperative Research and Production Act of 1993—IOPS.ORG Project

Notice is hereby given that, on January 27, 2000, pursuant to section 6(a) of the National Cooperative Research and Production Act of 1993, 15 U.S.C. 4301 et seq. (“the Act”), the Corporation for National Research Initiatives (“CNRI”) has filed written notifications simultaneously on behalf of a Cooperative Project between CNRI and participants known as the IOPS.ORG Project (“IOPS”) with the Attorney General and the Federal Trade Commission disclosing changes in its membership status. The notifications were filed for the purpose of extending the Act's provisions limiting the recovery of antitrust plaintiffs to actual damages under specified circumstances. Specifically, AT&T Global Networking Services, Basking Ridge, NJ; Broadwing Communications Services, Inc., Austin, TX; Cable & Wireless, Washington, DC; Conxion, Santa Clara, CA; and Qwest, Denver, CO have been added as Primary Members of this project. ANS CO+RE Systems, Inc., Elmsford, NY; BBN Corporation, Cambridge, MA; MCI Telecommunications, Washington, DC; PSINet, Inc., Herndon, VA; and UUNET Technologies, Fairfax, VA have been discontinued as Primary Members of this project.

The following companies have changed their names: AT&T Corporation, Basking Ridge, NJ is now AT&T Worldnet, Basking Ridge, NJ; GTE Intelligent Network Systems, Inc., Irving TX is now GTE Internetworking, Irving, TX; NETCOM On-Line Communications Services, Inc., San Jose, CA is now ICG Communications, Englewood, CO; and Sprint Communications Company, LLP, Kansas City, MO is now Sprint Internet Service Center, Kansas City, MO.

No other changes have been made in either the membership or planned activity of the group research project. Membership in this group research project remains open, and CNRI intends to file additional written notifications disclosing all changes in membership.

On July 2, 1997, CNRI filed its original notification pursuant to section 6(a) of the Act. The Department of Justice published a notice in the Federal Register pursuant to section 6(b) of the Act on October 6, 1997 (62 FR 52152).

Constance K. Robinson,
Director of Operations, Antitrust Division.

[FR Doc. 01-930 Filed 1-10-01 8:45 am]

BILLING CODE 4410-11-M